DEPARTMENT OF AGRICULTURE

Economic Research Service

Agency Information Collection Activities: Comment Request

AGENCY: Economic Research Service (ERS), Department of Agriculture (USDA).

ACTION: Notice of information collection; request to comment.

SUMMARY: In accordance with the Paperwork Reduction Act of 1995, ERS is proposing a new information collection to study farmers' practices and participation in cover crops, “Corn and Soybean Grower Survey.”

DATES: Written comments on this notice must be received by December 26, 2023 to be assured of consideration. Comments received after that date will be considered to the extent practicable. Send comments to the address below.

ADDRESSES: Address all comments concerning this notice to ers.pra@usda.gov identified by docket number 0536-NEW.

FOR FURTHER INFORMATION CONTACT: Requests for additional information or copies of this information collection should be directed to Julie Parker at ers.pra@usda.gov or 202-868-7945.

SUPPLEMENTARY INFORMATION:

Title of collection: Corn and Soybean Grower Survey.

OMB Control Number: 0536-NEW.

Type of Request: A new information collection.

Abstract:

Collection of Information for Corn and Soybean Grower Survey

The proposed data collection will survey corn and soybean farmers in the Midwestern United States to study farmers' preferences for participating in programs that support cover cropping and gather new information about current cover cropping practices. This survey sample will be drawn from Midwestern states as they represent a large majority corn and soy acreage, similar policy contexts, and potential for growth in cover crop adoption. USDA agencies are interested in supporting voluntary long-run adoption of climate smart conservation practices such as cover crops through technical assistance and financial incentives. There are multiple Federal, state, and private programs that support planting cover crops. This study is interested in Federal programs, the two largest of which are the Environmental Quality Incentive Program (EQIP) and the Conservation Stewardship Program (CSP).

The survey will use questions on contract enrollment to examine how contract flexibility, ease of applying, payments, and other aspects of cover crop contracts affect farmers' willingness to enroll their corn and soybean fields in cover crop programs. Results will be compared between farmers with no history of cover cropping in Federal programs and those who have cover cropped in Federal Programs.

Participation in the survey will be voluntary, and subjects will be recruited by mail with options to participate either online or by mail. Data will be analyzed using discrete choice models to estimate farmer preferences for cover crop contracts. Results from the survey will be used in academic and Federal research publications to provide information to stakeholders and the public regarding farmer preferences for planting cover crops and participating in cover crop programs. This work will also inform future studies on adoption of cover crops and other conservation practices.

Authority: These data will be collected under the authority of U.S. Code (U.S.C.) 7 U.S.C. 2204(a) General duties of Secretary, advisory functions, research and development and 7 U.S.C 6971, Under Secretary of Agriculture for Research, Education, and Economics, as implemented under the Code of Federal Regulations (CFR) 7 CFR 2.21 which delegates to the Under Secretary, as Chief Scientist, the responsibility for agricultural systems and technology, including emerging agricultural research, education, and extension needs. This Notice is submitted in accordance with the Paperwork Reduction Act of 1995 (at 44 U.S.C. 3501, et seq.) and Office of Management and Budget regulations at 5 CFR part 1320. 5 CFR part 1320.

Confidentiality: All ERS employees and ERS contractors must also fully comply with all provisions of the Confidential Information Protection and Statistical Efficiency Act (CIPSEA) of 2018, title III of Public Law 115-435, codified in 44 U.S.C. ch. 35.

Estimate of Burden: Public reporting burden for this collection of information is estimated to average approximately 30 minutes per respondent.

Respondents: The respondents will be farmers who grow corn or soy in Midwestern states.

Estimated Number of Respondents: Up to 2,250 respondents. This is based on a 15% response rate from a sample of 15,000 farmers.

Estimated Total Annual Burden on Respondents: Up to 3,625 hours.

Comments: Comments are invited on (a) whether the proposed collection of information is necessary for the proper performance of the functions of ERS, including whether the information will have practical utility; (b) the accuracy of ERS's estimate of the burden of the proposed collection of information; (c) ways to enhance the quality, use, and clarity of the information for respondents, including through the use of automated collection techniques or other forms of information technology; and (d) ways to minimize the burden of the collection of information on those who are to respond, including through the use of appropriate automated, electronic, mechanical, or other technological collection techniques or other forms of information technology.

Spiro Stefanou,
Administrator, Economic Research Service, United States Department of Agriculture.

[FR Doc. 2023-23755 Filed 10-26-23; 8:45 am]

BILLING CODE 3410-18-P